SECURITIES AND EXCHANGE COMMISSION

[Release Nos. 33-9037A; 34-60032A; IC-28757A; File No. 265-25]

Investor Advisory Committee; Notice of Federal Advisory Committee Establishment; Correction

In FR Doc. No. E9-13349, on page 27359 for Tuesday, June 9, 2009, the link for sending electronic comments to the Commission was incorrectly stated in two places. The correct link reads as follows: (http://www.sec.gov/rules/other.shtml).

Dated: June 9, 2009.
Florence E. Harmon,
Deputy Secretary.

[FR Doc. E9-13934 Filed 6-12-09; 8:45 am]

BILLING CODE 8010-01-P